DEPARTMENT OF LABOR

Agency Information Collection Activities; Submission for OMB Review; Comment Request; Apprenticeship Evidence-Building Portfolio, New Collection

AGENCY: Office of the Assistant Secretary for Policy, Chief Evaluation Office, Department of Labor.

ACTION: Notice of information collection; request for comment.

SUMMARY: The Department of Labor (DOL), as part of its continuing effort to reduce paperwork and respondent burden, conducts a preclearance consultation program to provide the general public and federal agencies with an opportunity to comment on proposed and/or continuing collections of information in accordance with the Paperwork Reduction Act of 1995 (PRA95). This program helps to ensure that requested data can be provided in the desired format, reporting burden (time and financial resources) is minimized, collection instruments are clearly understood, and the impact of collection requirements on respondents is properly assessed. Currently, the Department of Labor is soliciting comments concerning the collection of data about the Apprenticeship Evidence-Building Portfolio. A copy of the proposed Information Collection Request (ICR) can be obtained by contacting the office listed below in the addressee section of this notice.

DATES: Written comments must be submitted to the office listed in the addressee section below on or before February 18, 2020.

ADDRESSES: You may submit comments by either one of the following methods:

Email: ChiefEvaluationOffice@dol.gov; Mail or Courier: Janet Javar, Chief Evaluation Office, OASP, U.S. Department of Labor, Room S-2312, 200 Constitution Avenue NW, Washington, DC 20210. Instructions: Please submit one copy of your comments by only one method. All submissions received must include the agency name and OMB Control Number identified above for this information collection. Comments, including any personal information provided, become a matter of public record. They will also be summarized and/or included in the request for OMB approval of the information collection request.

FOR FURTHER INFORMATION CONTACT: Janet Javar by email at ChiefEvaluationOffice@dol.gov or by phone at (202) 693-5954.

SUPPLEMENTARY INFORMATION:

I. Background: The Chief Evaluation Office (CEO) of the U.S. Department of Labor (DOL) intends to design and conduct evaluations of DOL-funded apprenticeship initiatives through the Apprenticeship Evidence-Building Portfolio. The portfolio of initiatives includes the Scaling Apprenticeship Through Sector-Based Strategies grants, Closing the Skills Gap grants, Transitioning Service Member Apprenticeship demonstration, and other DOL investments. The goal of this five-year study is to build evidence on apprenticeship models, practices, and partnership strategies in high-growth occupations and industries.

The overall study is comprised of several components: (1) An implementation study of the Scaling Apprenticeship, Closing the Skill Gaps, and other similar DOL initiatives to develop typologies of apprenticeship models and practices, identify promising strategies across the portfolio, and to better understand the implementation of models to help interpret impact evaluation findings; (2) an impact evaluation to examine the effectiveness of the models on participants' outcomes, such as employment earnings and career advancement; (3) an implementation study on the Transitioning Service Member Apprenticeship demonstration to understand service delivery design and implementation, challenges, and promising practices. DOL will submit additional ICRs for future data collection requests for this overall study.

This Federal Register Notice provides the opportunity to comment on proposed data collection instruments that will be used in the evaluations: Baseline survey and informed consent of program participants; baseline survey and informed consent of program staff; interview guide for program staff; interview guide for program partners; focus group guide for program participants; interview guide for military apprenticeship placement counselors; and focus group guide for military participants.

1. Baseline survey and informed consent of program participants. Survey of program participants to collect baseline information.

2. Baseline survey and informed consent of program staff. Survey of program staff, including supervisors, instructors, and counselors, to collect baseline information.

3. Interview guide for program staff. Site visits to approximately 21 Scaling Apprenticeship and Closing the Skills Gaps grantees beginning in spring 2020. These visits will last two and a half days each. During these site visits, we will conduct one-on-one or small-group semi-structured interviews with program staff. We will also observe program activities to help us describe key program components, assess the quality of program delivery, and understand participant needs. The observations will not involve additional burden.

4. Interview guide for program partners. Also during these site visits, we will conduct one-on-one or small-group semi-structured interviews with staff from program partners, including employers, training and education providers, and community stakeholders.

5. Focus group guide for participants. Also during these site visits, we will conduct one focus group per site with approximately 10 program participants.

6. Interview guide for military apprenticeship placement counselors. Site visits to approximately 8 VETS grantees beginning in spring 2020. These visits will last one and a half days each. During these site visits, we will conduct one-on-one interviews with military apprenticeship placement counselors. We will also observe other relevant program activities to help us describe key program components. The observations will not involve additional burden.

7. Focus group guide for military participants. Also during these site visits, we will conduct one focus group per site with approximately 6 program participants.

II. Desired Focus of Comments: Currently, DOL is soliciting comments concerning the above data collection for the Apprenticeship Evidence-Building Portfolio. DOL is particularly interested in comments that do the following:

• Evaluate whether the proposed collection of information is necessary for the proper performance of the functions of the agency, including whether the information will have practical utility.

• Evaluate the accuracy of the agency's estimate of the burden of the proposed collection of information, including the validity of the methodology and assumptions used.

• Enhance the quality, utility, and clarity of the information to be collected.

• Minimize the burden of the collection of information on those who are to respond, including through the use of appropriate automated, electronic, mechanical, or other technological collection techniques or other forms of information technology—for example, permitting electronic submission of responses.

III. Current Actions: At this time, DOL is requesting clearance for the baseline survey and informed consent of participants; baseline survey and informed consent of staff; interview guide for program staff; interview guide for program partners; focus group guide for participants; interview guide for apprenticeship placement counselors; and focus group guide for military participants.

Type of Review: New information collection request.

OMB Control Number: 1290-0NEW.

Affected Public: Program staff, program partners, and participants of the Scaling Apprenticeship Through Sector-Based Strategies grants, Closing the Skills Gap grants, and Transitioning Service Member Apprenticeship demonstration. Additionally, apprenticeship placement counselors of the Transitioning Service Member Apprenticeship demonstration.

Comments submitted in response to this request will be summarized and/or included in the request for Office of Management and Budget approval of the information collection request; they will also become a matter of public record.

Estimated Annual Burden Hours
Type of instrument (form/activity) | Number of respondents | Number of responses per respondent | Total number of responses | Average burden time per response (hours) | Estimated burden hours
Baseline survey and consent—program participants | ¹ 5,000 | 1 | 5,000 | 0.25 | 1,250
Baseline survey and consent—program staff | ² 200 | 25 | 5,000 | 0.25 | 1,250
Interview guide—program staff | ³ 28 | 1 | 28 | 1.0 | 28
Interview guide—program partners | ³ 42 | 1 | 42 | 1.0 | 42
Focus group guide—program participants | ⁴ 70 | 1 | 70 | 1.5 | 105
Interview guide—military apprenticeship placement counselors | 6 | 1 | 6 | 1.0 | 6
Focus group guide—military participants | ⁵ 16 | 1 | 16 | 1.5 | 24
Total | 5,362 |  | 10,162 |  | 2,705
¹ Assumes 5,000 participants randomized every year.
² Assumes 200 staff assist in participant randomization every year, each serving 25 participants.
³ Assumes 7 sites visited per year with 4 program staff and 6 partner interviews per site.
⁴ Assumes 1 focus group with 10 participants per each site visited.
⁵ Assumes 1 focus group with 6 participants in each of 8 sites, spread over three years.

Christina Yancey,
Chief Evaluation Officer, U.S. Department of Labor.

[FR Doc. 2019-27411 Filed 12-18-19; 8:45 am]

BILLING CODE 4510-HX-P